COMMITTEE FOR THE IMPLEMENTATION OF TEXTILE AGREEMENTS

Determination under the Textile and Apparel Commercial Availability Provision of the Dominican Republic-Central America-United States Free Trade Agreement (CAFTA-DR Agreement)

February 15, 2008.

AGENCY: The Committee for the Implementation of Textile Agreements (CITA).

ACTION: Determination to add a product in unrestricted quantities to Annex 3.25 of the CAFTA-DR Agreement.

EFFECTIVE DATE: February 21, 2008.

SUMMARY: The Committee for the Implementation of Textile Agreements (CITA) has determined that certain wool blend coating fabrics, as specified below, are not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaftaReqTrack.nsf.Reference number: 39.2008.01.16.Fabric.Alston&Bird-Rothschild&Co.

SUPPLEMENTARYINFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On March 21, 2007, CITA published final procedures it would follow in considering requests to modify the Annex 3.25 list (72 FR 13256).

On January 16, 2008, the Chairman of CITA received a commercial availability request from Alston & Bird, LLP, on behalf of S. Rothschild & Co., Inc, and Herman Kay & Co., for certain wool blend coating fabrics of the specifications detailed below. On January 18, 2008, CITA notified interested parties of, and posted on its website, the accepted request and asked that interested entities provide, by January 31, 2008, a response advising of its objection to the commercial availability request or its ability to supply the subject product. CITA also asked that any rebuttals to responses be submitted to CITA by February 6, 2008.

No interested entity filed a response advising of its objection to the request or its ability to supply the subject product.

In accordance with Section 203(o)(4)(C) of the CAFTA-DR Act, and its procedures, as no interested entity submitted a response objecting to the request or expressing an ability to supply the subject product, CITA has determined to add the specified fabrics to the list in Annex 3.25 of the CAFTA-DR Agreement.

The subject fabrics are added to the list in Annex 3.25 of the CAFTA-DR Agreement in unrestricted quantities. A revised list has been published on-line.

Specifications:

HTSUS Classifications:

5111.30.9000, 5515.13.0510, 5515.22.0510, 5515.99.0510,5516.32.0510, 5516.33.0510

Fiber Content: 20 percent of more of man-made staple fibers and 36 to 80 percent of wool, cashmere or camelhair fiber (or any combination thereof), with a three percent fiber content allowance.

Yarn Size: Various

Fabric Weight: 17 to 23 ounces (482 to 652 grams)

Colors: Various

Finishing: Carbonized, fulled, dried, dyed, brushed, sheared, vaporized, rolled

R. Matthew Priest,
Chairman, Committee for the Implementation of Textile Agreements.

[FR Doc. 08-785 Filed 2-15-08; 1:42 pm]

BILLING CODE 3510-DS-S